DEPARTMENT OF COMMERCE

National Oceanic and Atmospheric Administration

[I.D. 022003C]

International Whaling Commission; Call for Nominations

AGENCY: National Marine Fisheries Service (NMFS), National

Oceanic and Atmospheric Administration (NOAA), Commerce.

ACTION: Request for nominations.

SUMMARY: This notice is a call for nominees for the U.S. Delegation to the June 2003 International Whaling Commission (IWC) annual meeting.

DATES: All nominations for the U.S. Delegation to the IWC annual meeting must be received by April 2, 2003.

ADDRESSES: All nominations for the U.S. Delegation to the IWC annual meeting should be addressed to Rolland Schmitten, U.S. Commissioner to the IWC, and sent via post to: Chris Yates, 13727, Office of Protected Resources, National Marine Fisheries Service, 1315 East West Highway, Silver Spring, MD 20910. Prospective Congressional advisors to the delegation should contact the Department of State directly.

FOR FURTHER INFORMATION CONTACT: Chris Yates, 301-713-2322, Extension 114.

SUPPLEMENTARY INFORMATION: The Secretary of Commerce is charged with the responsibility of discharging the obligations of the United States under the International Convention for the Regulation of Whaling, 1946. The U.S. commissioner has primary responsibility for the preparation and negotiation of U.S. positions on international issues concerning whaling and for all matters involving the IWC. He is staffed by the Department of Commerce and assisted by the Department of State, the Department of the Interior, Marine Mammal Commission, and by other agencies. The non-federal representative(s) selected as a result of this nomination process is(are) responsible for providing input and recommendations to the U.S. IWC Commissioner representing the positions of non-governmental organizations.

The IWC is hosting its 55th annual meeting from June 16-19, 2003, in Berlin, Germany.

Dated: February 20, 2003.
Laurie K. Allen,
Acting Director, Office of Protected Resources, National Marine Fisheries Service.

[FR Doc. 03-4685 Filed 2-27-03; 8:45 am]

BILLING CODE 3510-22-S